FEDERAL FINANCIAL INSTITUTIONS EXAMINATION COUNCIL

[Docket No. AS11-27]

Appraisal Subcommittee Notice of Meeting

AGENCY: Appraisal Subcommittee of the Federal Financial Institutions Examination Council.

ACTION: Notice of Meeting.

Description: In accordance with Section 1104(b) of Title XI of the Financial Institutions Reform, Recovery, and Enforcement Act of 1989, as amended, notice is hereby given that the Appraisal Subcommittee (ASC) will meet in closed session:

Location: OCC—250 E Street, SW., Room 7C/7CA,Washington, DC 20219.

Date: October 12, 2011.

Time: Immediately following the ASC open session.

Status: Closed.

Matters To Be Considered

September 21, 2011 minutes—Closed Session.

Preliminary discussion of State Compliance Reviews.

Dated: September 29, 2011.
James R. Park,
Executive Director.

[FR Doc. 2011-25781 Filed 10-4-11; 8:45 am]

BILLING CODE P